DEPARTMENT OF JUSTICE

Antitrust Division

Notice Pursuant to the National Cooperative Research and Production Act of 1993—ODVA, INC.

Notice is hereby given that, on April 23, 2018, pursuant to Section 6(a) of the National Cooperative Research and Production Act of 1993, 15 U.S.C. 4301 et seq. (“the Act”), ODVA, Inc. (“ODVA”) has filed written notifications simultaneously with the Attorney General and the Federal Trade Commission disclosing changes in its membership. The notifications were filed for the purpose of extending the Act's provisions limiting the recovery of antitrust plaintiffs to actual damages under specified circumstances. Specifically, Ingersoll-Rand Company, Davidson, NC; Erhardt+Leimer GmbH, Stadtbergen, GERMANY; Dalian SeaSky Automation Co., Ltd., Dalian Liaoning, PEOPLE'S REPUBLIC OF CHINA; CIMON, Gyeonggi-do, REPUBLIC OF KOREA; SYNTEC TECHNOLOGY CO., LTD., Hsinchu City, TAIWAN; and ASA-RT s.r.l., Torino, ITALY, have been added as parties to this venture.

Also, Bedrock Automation, Canton, MA; Criterion NDT, Auburn, WA; Hermany Opto Electronics Inc., Coquitlam, CANADA; Alfa Laval LKM as, Kolding, DENMARK; Pico and Tera, Suwon-si, REPUBLIC OF KOREA; and SWAC Automation Consult GmbH, Oberhaching, GERMANY, have withdrawn as parties to this venture.

In addition, Dynatronix has changed its name to ProTec Dynatronix LLC dba Dynatronix, Amery, WI; and Microscan Systems, Inc. to Omron Microscan Systems, Inc., Renton, WA.

No other changes have been made in either the membership or planned activity of the group research project. Membership in this group research project remains open, and ODVA intends to file additional written notifications disclosing all changes in membership.

On June 21, 1995, ODVA filed its original notification pursuant to Section 6(a) of the Act. The Department of Justice published a notice in the Federal Register pursuant to Section 6(b) of the Act on February 15, 1996 (61 FR 6039).

The last notification was filed with the Department on January 29, 2018. A notice was published in the Federal Register pursuant to Section 6(b) of the Act on February 27, 2018 (83 FR 8506).

Patricia A. Brink,
Director of Civil Enforcement, Antitrust Division.

[FR Doc. 2018-10161 Filed 5-11-18; 8:45 am]

BILLING CODE 4410-11-P